DEPARTMENT OF THE TREASURY

Bureau of Alcohol, Tobacco and Firearms

27 CFR Part 9

[T.D. ATF-445; RE: Notice No. 904]

RIN 1512-AA07

West Elks Viticultural Area (2000R-257P)

AGENCY: Bureau of Alcohol, Tobacco and Firearms (ATF), Treasury

ACTION: Final rule, Treasury decision.

SUMMARY: This final rule establishes a viticultural area to be known as “West Elks,” located in Delta County, Colorado. This action is the result of a petition filed on behalf of several grape growers and winery owners in the area.

The establishment of viticultural areas and the subsequent use of viticultural area names as appellations of origin in wine labeling and advertising allow wineries to designate the specific areas where the grapes used to make the wine were grown. This enables consumers to better identify the wines they may purchase.

EFFECTIVE DATE: May 7, 2001.

FOR FURTHER INFORMATION CONTACT: Lisa M. Gesser, Regulations Division, Bureau of Alcohol, Tobacco and Firearms, 650 Massachusetts Avenue, NW., Washington, DC 20226 (202-927-9347).

SUPPLEMENTARY INFORMATION:

1. Background on Viticultural Areas

What Is ATF's Authority To Establish a Viticultural Area?

On August 23, 1978, ATF published Treasury Decision ATF-53 (43 FR 37672, 54624). This decision revised the regulations in 27 CFR part 4, Labeling and Advertising of Wine, to allow the establishment of definitive viticultural areas. The regulations allow the name of an approved viticultural area to be used as an appellation of origin in the labeling and advertising of wine.

On October 2, 1979, ATF published Treasury Decision ATF-60 (44 FR 56692) which added a new part 9 to 27 CFR, American Viticultural Areas, for providing the listing of approved American viticultural areas, the names of which may be used as appellations of origin.

What Is the Definition of an American Viticultural Area?

Section 4.25a(e)(1), title 27, CFR, defines an American viticultural area as a delimited grape-growing region distinguishable by geographical features. Viticultural features such as soil, climate, elevation, topography, etc., distinguish it from surrounding areas.

What Is Required To Establish a Viticultural Area?

Any interested person may petition ATF to establish a grape-growing region as a viticultural area. The petition should include:

• Evidence that the name of the proposed viticultural area is locally and/or nationally known as referring to the area specified in the petition;

• Historical or current evidence that the boundaries of the viticultural area are as specified in the petition;

• Evidence relating to the geographical features (climate, soil, elevation, physical features, etc.) that distinguish the viticultural features of the proposed area from surrounding areas;

• A description of the specific boundaries of the viticultural area, based on features that can be found on United States Geological Survey (U.S.G.S.) maps of the largest applicable scale; and

• A copy of the appropriate U.S.G.S. map(s) with the boundaries prominently marked.

2. West Elks Petition

ATF received a petition from Barbara E. Heck proposing to establish a viticultural area in Delta County, Colorado, known as “West Elks.” The area encompasses approximately 75 square miles. Over 84 acres of vineyards are currently planted in West Elks and the area presently boasts eighteen vineyard and/or winery businesses.

Notice of Proposed Rulemaking

In response to the petition, ATF published a notice of proposed rulemaking, Notice No. 904, in the Federal Register on October 16, 2000, (65 FR 61129), proposing the establishment of the West Elks viticultural area. The notice requested comments from interested persons by December 15, 2000.

Comments on Notice of Proposed Rulemaking

No comments were received as a result of Notice No. 904.

What Name Evidence Has Been Provided?

The West Elks viticultural area takes its name from the West Elk Mountains located just east of the area. Each vineyard in the area has a magnificent view of the West Elk Mountains. The petitioner submitted the following as evidence of name recognition:

• Brochure from the U.S. Department of Agriculture Forest Service indicating that the proposed “West Elks” viticulture area is known as West Elk Wilderness;

• Brochure from the Colorado State Historical Society and Delta County Tourism mapping the West Elk Loop which runs through the proposed “West Elks” viticultural area;

• Delta County Area Map on which the West Elk Mountains are prominently labeled; and

• United States Department of the Interior topographic map on which the West Elk Wilderness and the West Elk Mountains are prominently labeled.

• News article from the Delta County Independent which depicts a 1855 map on which the Elk Mountains are prominently labeled;

• Delta County Historical Society map which also shows the Elk Mountains.

What Boundary Evidence Has Been Provided?

The West Elks viticultural area is located on mesa lands. Its borders are the West Elk Mountains to the east and the higher Grand Mesa to the north. To the south, Crawford and Fruitland Mesa have a higher elevation and the plateau climbs until it reaches the north rim of the Black Canyon of the Gunnison. To the west lie the Adobe Badlands in which very little grows.

What Evidence Relating to Geographical Features Has Been Provided?

• Soil: The soils of the West Elks viticultural area distinguish it from the surrounding areas. The petitioner provided a General Soil Map which indicates that the West Elks viticultural area is comprised mostly of Aqua Fria-Saration soils, which are deep and moderately deep well-drained stony soils that formed in outwash alluvium derived from igneous rock. To the north of the viticultural area, the soils change to Delson-Cerro soils and to the east the soils are Fughes-Bulkley, Absarokee-Beenom and Delson-Cerro. Billings-Gullied land soils are found to the south of the viticultural area.

• Elevation: The boundaries of the West Elks viticultural area are defined by elevation. The far eastern boundary, Juanita Junction, sits at 5942 feet. The eastern line sits mainly at 6200 feet. The southern border of the viticultural area follows section lines of the U.S.G.S. maps that have elevations that range from 5300 to over 5800 feet. The northern border has an elevation range from 6900 to 5900 feet.

The elevations of the areas surrounding the West Elks viticultural area are much higher. Mountains surround the area to the east with elevations reaching 11,000 feet. The Grand Mesa is located to the north of the viticultural area with elevations reaching 10,000 feet at the top. To the south, Crawford and Fruitland Mesa have higher elevations and the plateau climbs until it reaches the north rim of the Black Canyon of the Gunnison. To the west, the Adobe Badlands, on which very little grows, and the Redlands Mesa, which sits above 6200 feet, separate the West Elks viticultural area from Delta, Cedaredge and the Surface Creek areas. The farming area to the east of Delta sits under 5000 feet elevation, which indicates a longer growing season than that of the West Elks viticultural area.

The high elevation of the viticultural area creates a fruit that has tremendous flavor. The area is completely protected and sheltered by lofty mesas and mountain ranges. The elevations of the surrounding areas help protect the viticultural area from severe storms and climatic disturbances, which often injure or destroy fruit.

• Climate: The climate of the West Elks viticultural area is rather mild. With over 300 full sun days a year, grape sugar contents are high. The West Elk Loop Scenic and Historical Byway brochure states “. . . warm days, cool nights, and the so-called Million Dollar Breeze which flows down valley enhance the growing season.” The areas surrounding the West Elks viticultural area are much cooler due to their higher elevation.

3. Regulatory Analyses and Notices

Is This a Significant Regulatory Action as Defined by Executive Order 12866?

It has been determined that this final rule is not a significant regulatory action as defined in Executive Order 12866. Accordingly, this final rule is not subject to the analysis required by this Executive Order.

How Does the Regulatory Flexibility Act Apply to This Rule?

It is hereby certified that this regulation will not have a significant economic impact on a substantial number of small entities. Any benefit derived from the use of a viticultural area name is the result of the proprietor's own efforts and consumer acceptance of wines from a particular area. No new requirements are imposed. Accordingly, a regulatory flexibility analysis is not required.

Does the Paperwork Reduction Act Apply to This Rule?

The Paperwork Reduction Act of 1995, 44 U.S.C. Chapter 35, and its implementing regulations, 5 CFR part 1320, do not apply to this final rule because no requirement to collect information is imposed.

4. Drafting Information

The principal author of this document is Lisa M. Gesser, Regulations Division, Bureau of Alcohol, Tobacco and Firearms.

List of Subjects in 27 CFR Part 9

Administrative practice and procedure, Alcohol and alcoholic beverages, Consumer protection, and Wine.

Authority and Issuance

Title 27, Code of Federal Regulations, Part 9, American Viticultural Areas, is amended as follows:

PART 9—AMERICAN VITICULTURAL AREAS

Paragraph 1. The authority citation for part 9 continues to read as follows:

Authority: 27 U.S.C. 205.

Subpart C—Approved American Viticultural Areas

Par. 2. Subpart C is amended by adding § 9.172 to read as follows:

§ 9.172 West Elks.

(a) Name. The name of the viticultural area described in this section is “West Elks.”

(b) Approved Maps. The appropriate maps for determining the boundary of the West Elks viticultural area are four United States Geological Survey (U.S.G.S.) topographic maps (Scale: 1:250,000). They are titled:

(1) Lazear Quadrangle (Colorado-Delta Co. 1955 (photorevised 1978));

(2) Hotchkiss Quadrangle (Colorado-Delta Co. 1965 (photorevised 1979));

(3) Paonia Quadrangle (Colorado-Delta Co. 1965 (photorevised 1979); and

(4) Bowie Quadrangle (Colorado-Delta Co. 1965 (photorevised 1978).

(c) Boundaries. The West Elks viticultural area is located in eastern Delta County, Colorado. The beginning point is found on the “Bowie Quadrangle” U.S.G.S. map at the ¼ corner common to Sections 19 and 20, Township 13 South, Range 91 West (T. 13 S., R. 91 W.);

(1) The boundary proceeds east following the center subdivision lines of Sections 20 and 21 to its intersection with Colorado Highway 133;

(2) Then northeasterly following Colorado Highway 133 to its intersection with the N-S center subdivision line of Section 14, T. 13 S., R. 91 W., near Juanita Junction;

(3) Then south following the center subdivision line to its intersection with the North Fork of the Gunnison River;

(4) Then southwesterly following the North Fork of the Gunnison River to its intersection with the Stewart Ditch in the extreme southern part of Section 15, T. 13 S., R. 91 W.;

(5) Then southwesterly following the Stewart Ditch to its intersection with the section line common to Sections 21 and 28, T. 13 S., R. 91 W.;

(6) Then east following the section line common to Sections 21 and 28 to its intersection with the 6000 foot contour;

(7) Then southerly following the 6000 foot contour to its second intersection with the section line common to Sections 3 and 4, T. 14 S., R. 91 W., located on the Paonia, Colo. U.S.G.S. map;

(8) Then south following the section line common to Sections 3 and 4 to its intersection with the 6200 foot contour;

(9) Then southerly following the 6200 foot contour to its intersection with the section line common to Sections 16 and 17, T. 14 S., R. 91 W.;

(10) Then south following the section line common to Sections 16 and 17 to the point of intersection of Sections 16, 17, 20 and 21;

(11) Then west following the section line common to Sections 17 and 20 to the point of intersection of Sections 17, 18, 19 and 20;

(12) Then south following the section line common to Sections 19 and 20 to the N1/16 corner common to Sections 19 and 20;

(13) Then west following the subdivision line across Section 19 to the N1/16 corner common to Section 19, T. 14 S., R. 91 W. and Section 24, T, 14 S., R. 92 W.;

(14) Then south following the range line between R. 91 W. and R. 92 W. to the point of intersection between Sections 19 and 30, T. 14 S., R. 91 W. and Sections 24 and 25, T. 14 S., R. 92 W.;

(15) Then west following the section line common to Sections 24 and 25 to the point of intersection between Sections 23, 24, 25 and 26, located on the Hotchkiss, Colo. U.S.G.S. map;

(16) Then south following the section line common to Sections 25 and 26 to the point of intersection between Sections 25, 26, 35 and 36;

(17) Then west following the section lines common to Sections 26 and 35 and Sections 27 and 34 to the point of intersection between Sections 27, 28, 33 and 34;

(18) Then south following the section line common to Sections 33 and 34 to the point of intersection between Sections 33 and 34, T. 14 S., R. 92 W. and Sections 3 and 4, T. 15 S., R. 92 W.;

(19) Then west following the township line between T. 14 S. and T. 15 S. approximately three miles to the point of intersection between Section 31, T. 14 S., R. 92 W., Section 6, T. 15 S., R. 92 W., Section 1, T. 15 S., R. 93 W., and Section 36, T. 14 S., R. 93 W.;

(20) Then south following the range line between R. 92 W. and R. 93 W. to the point of intersection between Sections 6 and 7, T. 15 S., R. 92 W. and Sections 1 and 12, T. 15 S., R. 93 W.;

(21) Then west following the section lines common to Sections 1 and 12 and Sections 2 and 11 to its intersection with the North Fork of the Gunnison River, located on the Lazear, Colo. U.S.G.S. map;

(22) Then westerly following the North Fork of the Gunnison River to its intersection with Big Gulch in the extreme northeastern corner of Section 6, T. 15 S., R. 93 W.;

(23) Then northerly following Big Gulch to its intersection with the section line common to Sections 17 and 18, T. 14 S., R. 93 W.;

(24) Then north following the section lines common to Sections 17 and 18, Sections 7 and 8, and Sections 5 and 6 to the point of intersection between Sections 5 and 6, T. 14 S., R. 93 W. and Sections 31 and 32, T. 13 S., R. 93 W.;

(25) Then east following the township line between T. 13 S. and T. 14 S. approximately two miles to the point of intersection between Sections 3 and 4, T. 14 S., R. 93 W. and Sections 33 and 34, T. 13 S., R. 93 W.;

(26) Then south following the section line common to Sections 3 and 4 to the point of intersection between Sections 3, 4, 9 and 10;

(27) Then east following the section lines for approximately 6 miles to the point of intersection between Sections 3, 4, 9 and 10, T. 14 S., R. 92 W., located on the Hotchkiss, Colo. U.S.G.S. map;

(28) Then north following the section line common to Sections 3 and 4 to the point of intersection between Sections 3 and 4, T. 14 S., R. 92 W. and Sections 33 and 34, T. 13 S., R. 92 W.;

(29) Then east following the township line between T. 13 S. and T. 14 S. to its intersection with the Fire Mountain Canal in the southwestern corner of Section 35, T. 13 S., R. 92 W.;

(30) Then northeasterly following the Fire Mountain Canal through the extreme northwest corner of the Paonia, Colo. U.S.G.S. map to its intersection with the section line common to Sections 29 and 30, T. 13 S., R. 91 W., located on the Bowie, Colo. U.S.G.S. map;

(31) Then north following the section lines common to Sections 29 and 30 and Sections 19 and 20 to the 1/4 corner common to Sections 19 and 20, the point of beginning.

Dated: February 1, 2001.
Bradley A. Buckles,
Director.
Approved: February 15, 2001.
Timothy E. Skud,
Acting Deputy Assistant Secretary (Regulatory, Tariff and Trade Enforcement).

[FR Doc. 01-5423 Filed 3-5-01; 8:45 am]

BILLING CODE 4810-31-P